DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Generic Clearance for 2010 Census Program for Evaluations and Experiments.

Form Number(s): Various.

OMB Control Number: None.

Type of Request: New collection.

Burden Hours: 26,854.

Number of Respondents: 1,815,000.

Average Hours per Response: Between 7 and 10 minutes.

Needs and Uses: As with previous decennial censuses dating back to 1950, the U.S. Census Bureau has undertaken the 2010 Census Program for Evaluations and Experiments (CPEX) to examine methodologies, techniques, and strategies that will potentially improve the way it conducts the next decennial census. The 2010 CPEX will guide future census design, as well as benefit other ongoing programs conducted by the Census Bureau, such as the American Community Survey.

The 2010 CPEX includes four experiments and over 20 evaluations. This request for OMB approval covers all four experiments and four of the 20 evaluations. For the remaining 16 evaluations in the 2010 CPEX, some do not involve data collections and do not require OMB approval; others are still in development, and will be submitted for OMB clearance at a later time. The four experimental studies are as follows: 2010 Alternative Questionnaire Experiment (AQE); 2010 Nonresponse Followup (NRFU) Contact Strategy Experiment; 2010 Deadline Messaging (DM)/Compressed Schedule (CS) Experiment; and 2010 Privacy Notification (PN) Experiment. The four evaluations are as follows: 2010 AQE Reinterview Evaluation; 2010 Content Reinterview Evaluation; 2010 Alternative Group Quarters (GQ) Questionnaire Evaluation; and the 2010 Interactive Voice Response (IVR) Customer Satisfaction Survey Evaluation. The Census Bureau identified the need to include the IVR Customer Satisfaction Survey Evaluation in this generic clearance package after the publication of the pre-submission notice in the Federal Register on September 24, 2008. The Census Bureau and the Office of Management and Budget (OMB) have discussed and agree on the inclusion of the IVR Customer Satisfaction Survey Evaluation in this package.

All of the experiments and evaluations are primarily designed for use by the Census Bureau and will inform early 2020 testing and planning. These experiments and evaluations are designed to identify improvements for the next decennial census. Census Bureau managers and planners will use results from these studies to focus 2020 decennial census planning and research.

This request is for a generic clearance, which seeks to gain pre-approval for the evaluations and experiments listed above. General descriptions of each activity, and as much detail as can be provided presently are provided to OMB in this clearance request. However, some details and the forms to be utilized are not finalized as of the date of this submission and are not provided to OMB in the clearance request. These details and final forms will be submitted to OMB in advance of each activity as non-substantive change requests.

Affected Public: Individuals or households.

Frequency: One time.

Respondent's Obligation: With the exception of the voluntary IVR Customer Satisfaction Survey, these activities are mandatory.

Legal Authority: Title 13, United States Code, Section 141 and 193.

OMB Desk Officer: Brian Harris-Kojetin, (202) 395-7314.

Copies of the above information collection proposal can be obtained by calling or writing Diana Hynek, Departmental Paperwork Clearance Officer, (202) 482-0266, Department of Commerce, Room 7845, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: February 25, 2009.
Gwellnar Banks,
Management Analyst, Office of the Chief Information Officer.

[FR Doc. E9-4376 Filed 3-2-09; 8:45 am]

BILLING CODE 3510-07-P